DEPARTMENT OF DEFENSE

Defense Acquisition Regulations System

48 CFR Parts 222 and 252

RIN 0750-AF65

Defense Federal Acquisition Regulation Supplement; Military Construction on Guam (DFARS Case 2006-D065)

AGENCY: Defense Acquisition Regulations System, Department of Defense (DoD).

ACTION: Final rule.

SUMMARY: DoD has issued a final rule amending the Defense Federal Acquisition Regulation Supplement (DFARS) to remove text addressing a statutory prohibition on the use of nonimmigrant aliens to perform work under contracts for military construction on Guam. The statutory prohibition was repealed by Section 2810 of the National Defense Authorization Act for Fiscal Year 2007.

EFFECTIVE DATE: April 26, 2007.

FOR FURTHER INFORMATION CONTACT: Ms. Felisha Hitt, Defense Acquisition Regulations System, OUSD (AT&L) DPAP (DARS), IMD 3C132, 3062 Defense Pentagon, Washington, DC 20301-3062. Telephone (703) 602-0310; facsimile (703) 602-0350. Please cite DFARS Case 2006-D065.

SUPPLEMENTARY INFORMATION:

A. Background

10 U.S.C. 2864 contained a prohibition on the performance of work by persons with nonimmigrant status under contracts for military construction on Guam. Section 2810 of the National Defense Authorization Act for Fiscal Year 2007 (Pub. L. 109-364) repealed 10 U.S.C. 2864. Therefore, this final rule revises DFARS Subpart 222.73 to remove references to the prohibition of 10 U.S.C. 2864. The statutory prohibition on the use of nonimmigrant aliens under contracts for base operations support on Guam (Pub. L. 105-85, Section 390) is still in effect and continues to be implemented in DFARS Subpart 222.73.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subpart in accordance with 5 U.S.C. 610. Such comments should cite DFARS Case 2006-D065.

C. Paperwork Reduction Act

The Paperwork Reduction Act does not apply, because the rule does not impose any information collection requirements that require the approval of the Office of Management and Budget under 44 U.S.C. 3501, et seq.

List of Subjects in 48 CFR Parts 222 and 252

Government procurement.

Michele P. Peterson,
Editor, Defense Acquisition Regulations System.

Therefore, 48 CFR parts 222 and 252 are amended as follows:

1. The authority citation for 48 CFR parts 222 and 252 continues to read as follows:

Authority: 41 U.S.C. 421 and 48 CFR Chapter 1.

PART 222—APPLICATION OF LABOR LAWS TO GOVERNMENT ACQUISITIONS

2. Section 222.7300 is revised to read as follows:

222.7300 Scope of subpart.

This subpart—

(a) Implements Section 390 of the National Defense Authorization Act for Fiscal Year 1998 (Pub. L. 105-85); and

(b) Applies to contracts for base operations support on Guam that—

(1) Are awarded as a result of a competition conducted under OMB Circular A-76; and

(2) Are entered into or modified on or after November 18, 1997.

3. Section 222.7301 is amended by revising paragraph (a) to read as follows:

222.7301 Prohibition on use of nonimmigrant aliens.

(a) Any alien who is issued a visa or otherwise provided nonimmigrant status under Section 101(a)(15)(H)(ii) of the Immigration and Nationality Act (8 U.S.C. 1101(a)(15)(H)(ii)) is prohibited from performing work under a contract for base operations support on Guam.

* * * * *

4. Section 222.7302 is revised to read as follows:

222.7302 Contract clause.

Use the clause at 252.222-7005, Prohibition on Use of Nonimmigrant Aliens—Guam, in solicitations and contracts subject to this subpart.

222.7303 [Removed]

5. Section 222.7303 is removed.

PART 252—SOLICITATION PROVISIONS AND CONTRACT CLAUSES

252.222-7005 [Amended]

6. Section 252.222-7005 is amended in the introductory text by removing “222.7303” and adding in its place “222.7302”.

[FR Doc. E7-7912 Filed 4-25-07; 8:45 am]

BILLING CODE 5001-08-P